FEDERAL COMMUNICATIONS COMMISSION

47 CFR Part 73

[DA 00-1905; MM Docket No. 00-146, RM-9937; MM Docket No. 00-147, RM-9938; MM Docket No. 00-148, RM-9939; MM Docket No. 00-149, RM-9940]

Radio Broadcasting Services; Marietta, MS; Lake City, CO; Quanah, TX; Smiley, TX

AGENCY: Federal Communications Commission.

ACTION: Proposed rule.

SUMMARY: This document proposes four new allotments to Marietta, MS; Lake City, CO; Quanah, TX; and Smiley, TX. The Commission requests comments on a petition filed by Robert Sanders proposing the allotment of Channel 250A at Marietta, Mississippi, as the community's first local aural transmission service. Channel 250A can be allotted to Marietta in compliance with the Commission's minimum distance separation requirements with a site restriction of 1.3 kilometers (0.8 miles) east to avoid a short-spacing the licensed sites of Station WWMS(FM), Channel 248C1, Oxford, Mississippi, and Station WZLQ(FM), Channel 253C1, Tupelo, Mississippi. The coordinates for Channel 250A at Marietta are 34-30-20 North Latitude and 88-27-18 West Longitude. See Supplementary Information.

DATES: Comments must be filed on or before October 10, 2000, and reply comments on or before October 25, 2000.

ADDRESSES: Federal Communications Commission, Washington, DC 20554. In addition to filing comments with the FCC, interested parties should serve the petitioner, his counsel, or consultant, as follows: Robert Sanders, 135 Highway 371, Marietta, Mississippi (Petitioner for the Marietta, MS proposal); Matthew H. McCormick, Esq., Reddy, Begley & McCormick, 2175 K Street, NW., Suite 350, Washington, DC 20037 (Counsel for The Parker Radio Project); Marie Drischel, General Partner, NationWide Radio Stations, 496 County Road 308, Big Creek, Mississippi 38914 (Petitioner for the Quanah, TX proposal); and Henry E. Crawford, Esq., Smithwick & Belendiuk, P.C., 5028 Wisconsin Ave., NW., Suite 301, Washington, DC 20016 (Counsel for Smiley Community Radio Company).

FOR FURTHER INFORMATION CONTACT: Sharon P. McDonald, Mass Media Bureau, (202) 418-2180.

SUPPLEMENTARY INFORMATION: This is a synopsis of the Commission's Notice of Proposed Rule Making, MM Docket No. 00-146; MM Docket No. 00-147; MM Docket No. 00-148; and MM Docket No. 00-149, adopted August 9, 2000, and released August 18, 2000. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

The Commission requests comments on a petition filed by The Parker Radio Project proposing the allotment of Channel 247A at Lake City, Colorado, as the community's first local aural transmission service. Channel 247A can be allotted to Lake City in compliance with the Commission's minimum distance separation requirements at city reference coordinates. The coordinates for Channel 247A at Lake City are 38-01-47 North Latitude and 107-18-52 West Longitude.

The Commission requests comments on a petition filed by NationWide Radio Stations proposing the allotment of Channel 233C3 at Quanah, Texas, as the community's second local FM transmission service. Channel 233C3 can be allotted to Quanah, Texas in compliance with the Commission's minimum distance separation requirements at city reference coordinates. The coordinates for Channel 233C3 at Quanah are 34-17-52 North Latitude and 99-44-23 West Longitude.

The Commission requests comments on a petition filed by Smiley Community Radio Company proposing the allotment of Channel 280A at Smiley, Texas, as the community's first local aural transmission service. Channel 280A can be allotted to Smiley in compliance with the Commission's minimum distance separation requirements with a site restriction of 6.5 kilometers (4.02 miles) southeast to avoid a short-spacing to the licensed site of Station KOUL(FM), Channel 279C1 Sinton, Texas, and to the proposed reference site for Channel 281C1 at Pearsall, Texas. The coordinates for Channel 280A at Smiley are 29-13-34 North Latitude and 97-35-18 West Longitude. Since Smiley is located within 320 kilometers (199 miles) of the U.S.-Mexican border, concurrence of the Mexican government has been requested.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-22561 Filed 9-1-00; 8:45 am]

BILLING CODE 6712-01-P